DEPARTMENT OF LABOR

Employee Benefits Security Administration

[Exemption Application No. D-11467]

Withdrawal of Notice of Proposed Exemption Involving the Merritts Antiques, Inc. Employees Pension Plan (Plan); Located in Douglasville, PA

In the Federal Register dated September 3, 2008 (73 FR 51525), the Department of Labor (the Department) published a notice of proposed exemption (the Notice) from the prohibited transaction restrictions of the Employee Retirement Income Security Act of 1974 and from certain taxes imposed by the Internal Revenue Code of 1986. The Notice, for which relief has been requested, concerned the sale of real property from the Plan (the Property) to its sponsoring employer Merritts Antiques, Inc. (the Applicant). By letter dated August 29, 2008, the Applicant informed the Department that it wished to withdraw the Notice because the Property had been sold to a third party buyer.

Accordingly, the Notice is hereby withdrawn.

Signed at Washington, DC, this 13th day of January, 2009.
Ivan L. Strasfeld,
Director of Exemption Determinations, Employee Benefits Security Administration, U.S. Department of Labor.

[FR Doc. E9-961 Filed 1-15-09; 8:45 am]

BILLING CODE 4510-29-P